DEPARTMENT OF JUSTICE

Notice of Lodging of Settlement Agreement Pursuant to the Comprehensive Environmental Response Compensation and Liability Act (“CERCLA”)

Notice is hereby given that on September 27, 2005, a proposed Settlement Agreement in In re FV Steel and Wire, No. 04-22421, was lodged with the United States Bankruptcy Court for the Eastern District of Wisconsin.

On August 19, 2004, the United States, on behalf of the Environmental Protection Agency (“EPA”), filed a Proof of Claim under Section 107(a) of the Comprehensive Environmental Response, Compensation, and Recovery Act, as amended (“CERCLA”), 42 U.S.C. 9607(a), against the Debtor seeking recovery of $2,441,702 in past costs incurred by EPA in responding to the release or threat of release of hazardous substances at the Pascale Property Site (“Site”) in Washington Township, New Jersey. The Settlement Agreement provides that the United States will have an allowed general unsecured claim against the Debtor in the amount of $732,000, and that the United States Army will pay $1,098,765 in reimbursement of EPA's response costs at the Site.

The Department of Justice will receive for a period of thirty (30) days from the date of this publication comments relating to the Consent Decree. Comments should be addressed to the Assistant Attorney General, Environment and Natural Resources Division, P.O. Box 7611, U.S. Department of Justice, Washington, DC 20044-7611, and should refer to In re FV Steel and Wire, No. 04-22421, D.J. Ref. 90-7-1-1/2.

The Consent Decree may be examined at the Office of the United States Attorney, Eastern District of Wisconsin, 517 East Wisconsin Ave., Room 530, Milwaukee, WI, 53202, (contact Assistant United States Attorney Susan Knepel) and at U.S. EPA Region II, 290 Broadway, New York, New York 10007-1866 (contact Assistant Regional Counsel Clay Monroe). During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury.

Ronald Gluck,
Assistant Chief, Environmental Enforcement Section, Environment and Natural Resources Division.

[FR Doc. 05-20539 Filed 10-12-05; 8:45 am]

BILLING CODE 4410-15-M